DEPARTMENT OF LABOR

Bureau of Labor Statistics

Proposed Collection; Comment Request

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) (44 U.S.C. 3506(c) (2)(A)). This program helps to ensure that requested data can be provided in the desired format, reporting burden (time and financial resources) is minimized, collection instruments are clearly understood, and the impact of collection requirements on respondents can be properly assessed. The Bureau of Labor Statistics (BLS) is soliciting comments concerning the proposed revision of the Annual Refiling Survey (ARS). A copy of the proposed information collection request (ICR) can be obtained by contacting the individual listed below in the Addresses section of this notice.

DATES: Written comments must be submitted to the office listed in the Addresses section below on or before July 6, 2001.

ADDRESSES: Send comments to Amy A. Hobby, BLS Clearance Officer, Division of Management Systems, Bureau of Labor Statistics, Room 3255, 2 Massachusetts Avenue, NE., Washington, DC 20212, telephone number 202-691-7628 (this is not a toll free number).

FOR FURTHER INFORMATION CONTACT: Amy A. Hobby, BLS Clearance Officer, telephone number 202-691-7628. (See Addresses section.)

SUPPLEMENTARY INFORMATION:

I. Background

The Standard Industrial Classification (SIC) system was replaced by the North American Industry Classification System (NAICS) in 1997 as the standard for industrial classification. As a result of this change, the Bureau of Labor Statistics (BLS) has been converting SIC codes to NAICS codes in the ARS. The conversion is planned to be completed with Fiscal Year 2001 ARS processing, at which time industrial classifications in the ARS will be based on the 2002 NAICS.

ARS forms used in the conversion were designed to gather respondent information necessary for converting SIC codes to NAICS codes. The BLS currently is requesting Office of Management and Budget clearance of revised ARS survey forms that will be used to verify and update existing 2002 NAICS codes. They also will be used to update employers' business names and addresses and other geographical information. The revised ARS forms have been redesigned to be easier to read and understand.

II. Desired Focus of Comments

The Bureau of Labor Statistics is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Action

The BLS uses the Annual Refiling Survey (ARS) forms to gather industrial and geographical data on business establishments. The revised ARS forms are designed to verify and update NAICS codes, geographical information, and multiple worksite information.

Type of Review: Revision of a currently approved collection.

Agency: Bureau of Labor Statistics.

Title: Annual Refiling Survey.

OMB Number: 1220-0032.

Affected Public: Individuals or households; Business or other for-profit; Not-for-profit institutions; Farms; Federal government; State, local, or tribal government.

Total Respondents: 2,272,998.

Frequency: Annually.

Total Responses: 2,272,998.

Form | Total respondents | Frequency | Total responses | Average time per response | Estimated total burden (hours)
3023-NVS | 2,092,708 | Once | 2,092,708 | .083 | 173,695
3023-NVM | 37,334 | Once | 37,334 | .25 | 9,334
3023-NCA | 142,956 | Once | 142,956 | .167 | 23,874
Totals | 2,272,998 |  | 2,272,998 |  | 206,903

Total Burden Cost (capital/startup): $0.

Total Burden Cost (operating/maintenance): $0.

Comments submitted in response to this notice will be summarized and/or included in the request for Office of Management and Budget approval of the information collection request; they also will become a matter of public record.

Signed at Washington, DC this 1st day of May 2001.
W. Stuart Rust, Jr.,
Chief, Division of Management Systems, Bureau of Labor Statistics.

[FR Doc. 01-11409 Filed 5-4-01; 8:45 am]

BILLING CODE 4510-24-P